DEPARTMENT OF THE INTERIOR

Bureau of Land Management

[BLM_CO_FRN_MO4500174493]

Notice of Availability of the Draft Resource Management Plan Amendment and Environmental Impact Statement for the Gunnison Sage-Grouse (Centrocercus minimus), Colorado and Utah

AGENCY: Bureau of Land Management, Interior.

ACTION: Notice of availability.

SUMMARY: In compliance with the National Environmental Policy Act of 1969, as amended (NEPA), and the Federal Land Policy and Management Act of 1976, as amended, the Bureau of Land Management (BLM) has prepared a draft Resource Management Plan (RMP) amendment and draft Environmental Impact Statement (EIS) for the Gunnison Sage-Grouse (Centrocercus minimus) and by this notice is providing information announcing the opening of the comment period on the draft RMP amendment/EIS and is announcing the comment period on the BLM's proposed areas of critical environmental concern (ACECs).

DATES: This notice announces the opening of a 90-day comment period for the draft RMP amendment/EIS beginning with the date following the Environmental Protection Agency's (EPA) publication of its Notice of Availability (NOA) in the Federal Register. The EPA usually publishes its NOAs on Fridays.

To afford the BLM the opportunity to consider comments in the proposed RMP amendment/final EIS, please ensure your comments are received prior to the close of the 90-day comment period or 15 days after the last public meeting, whichever is later.

In addition, this notice also announces the opening of a 60-day comment period for ACECs. The BLM must receive your ACEC-related comments by January 8, 2024.

ADDRESSES: The draft RMP amendment/EIS is available for review on the BLM ePlanning project website at https://eplanning.blm.gov/eplanning-ui/project/2019031/510.

Written comments related to the Gunnison Sage-Grouse RMP amendment may be submitted by any of the following methods:

• Website: electronically via the BLM ePlanning website at https://eplanning.blm.gov/eplanning-ui/project/2019031/510.

• Mail: BLM Southwest District Office, ATTN: GUSG RMPA, 2465 South Townsend Ave., Montrose, CO 81401.

Documents pertinent to this proposal may be examined online at https://eplanning.blm.gov/eplanning-ui/project/2019031/510 and at the Grand Junction, Uncompahgre, Tres Rios, Gunnison, San Luis Valley, Moab, and Monticello Field Offices.

FOR FURTHER INFORMATION CONTACT: Gina Phillips, Project Manager, telephone 970-240-5381; BLM Southwest District Office, 2465 South Townsend Ave., Montrose, CO 81401; email BLM_CO_GUSG_RMPA@blm.gov. Individuals in the United States who are deaf, deafblind, hard of hearing, or have a speech disability may dial 711 (TTY, TDD, or TeleBraille) to access telecommunications relay services for contacting Ms. Phillips. Individuals outside the United States should use the relay services offered within their country to make international calls to the point-of-contact in the United States.

SUPPLEMENTARY INFORMATION: This document provides notice that the BLM Colorado and Utah State Directors have prepared a draft RMP amendment/EIS, provides information announcing the opening of the comment period on the draft RMP amendment/EIS, and is announcing the comment period on the BLM's proposed ACECs. The RMP amendment is being considered to allow the BLM to evaluate protections for Gunnison sage-grouse consistent with the latest measures in the recently completed U.S. Fish and Wildlife Service (USFWS) recovery plan, which would require amending the following existing plans:

Colorado

• Canyons of the Ancients National Monument RMP (2010)

• Dominguez-Escalante National Conservation Area RMP (2017)

• Grand Junction Field Office RMP (2015)

• Gunnison Gorge National Conservation Area RMP (2004)

• Gunnison Resource Area RMP (1993)

• McInnis Canyons National Conservation Area RMP (2004)

• San Luis Resource Area RMP (1991)

• Tres Rios Field Office RMP (2015)

• Uncompahgre Field Office RMP (2020)

Utah

• Moab Field Office RMP (2008)

• Monticello Field Office RMP (2008)

The planning area is located in portions of 19 Colorado counties: Alamosa, Archuleta, Conejos, Costilla, Delta, Dolores, Garfield, Gunnison, Hinsdale, La Plata, Mesa, Mineral, Montezuma, Montrose, Ouray, Rio Grande, Saguache, San Juan, and San Miguel; and two Utah counties: Grand and San Juan; and encompasses approximately 16 million acres of public land.

Levels of protection for Gunnison sage-grouse habitat are highly variable across the BLM administrative units. Several of the existing RMPs, especially the recently completed (as recent as 2020) land use planning revisions, provide management direction that meet the existing purpose and need of this RMP amendment, while others that were completed in the early 1990s, for example, do not provide adequate protection for Gunnison sage-grouse consistent with the latest measures in the recently completed USFWS recovery plan. The planning area includes lands administered by the BLM; U.S. Department of Agriculture, Forest Service; U.S. Department of the Interior (DOI), National Park Service; U.S. DOI, Bureau of Reclamation; State of Colorado; State of Utah; and private lands.

The BLM published a notice of intent in the Federal Register to initiate the public scoping period for this planning effort on July 6, 2022 (87 FR 40262). The BLM hosted four public scoping meetings aimed at soliciting nominations for ACECs, identifying the scope of issues to be addressed in the RMP amendment, and gathering input to assist in formulating a reasonable range of alternatives. The resource concerns identified during the scoping process included Gunnison sage-grouse habitat, vegetation, livestock grazing management, mineral development, renewable energy development, wildland fire ecology and management, ACECs, recreation, lands and realty, air resources, soil resources, lands with wilderness characteristics, and social and economic conditions.

Purpose and Need

The BLM's purpose consists of the following:

• Promote the recovery of the threatened Gunnison sage-grouse and maintain and enhance BLM-administered occupied/unoccupied habitat upon which the species depends, while continuing to manage the land wherever possible for multiple use and sustained yield.

• Ensure management actions on BLM-administered lands support conservation goals for Gunnison sage-grouse and their habitat.

• Ensure that BLM management aligns with current science and data; relevant Federal, State, and local decisions supporting recovery; the DOI Climate Action Plan; and the USFWS Final Recovery Plan for Gunnison Sage-Grouse and Recovery Implementation Strategy for Gunnison Sage-Grouse (Centrocercus minimus).

• Provide consistent guidance for addressing threats to Gunnison sage-grouse populations and their habitat.

This BLM action is necessary to accomplish the following:

• Address the rangewide downward population trend of Gunnison sage-grouse since 2014 and address issues related to land management that may affect occupied/unoccupied habitat.

• Respond to the Endangered Species Act (ESA) Section 7(a)(1) requirement that the BLM use its authority to further the purposes of the ESA by implementing management actions for the conservation of federally listed species and the ecosystems upon which they depend.

• Respond to changing ecological and climate conditions affecting BLM-administered lands, including drought, habitat loss and fragmentation, reduced riparian areas, and more frequent wildland fires.

Alternatives Including the Preferred Alternative

The BLM has analyzed five alternatives in detail, including the no action alternative. This land use planning effort addresses management actions impacting, or with the potential to impact, Gunnison sage-grouse and occupied and unoccupied habitat in the decision area. The decision area consists of approximately 2,156,150 acres of BLM-managed surface lands (1,926,100 acres in Colorado and 230,050 acres in Utah) and 2,852,390 acres of Federal subsurface mineral estate (2,563,220 acres in Colorado and 289,170 acres in Utah). Alternative A (No Action Alternative—Current Management) would continue current BLM management direction in the 11 administrative units in the planning area.

Alternative B would prioritize removing identified threats within occupied and unoccupied habitat and reduce impacts within the decision area, which includes the four-mile buffer around habitat, and potential linkage-connectivity areas, to the maximum extent allowable. Alternative B contains two sub-alternatives for livestock grazing management actions in response to recommendations made in public scoping comments. Alternative B would designate all nominated ACECs that meet relevance and importance criteria.

Alternative C would minimize, mitigate, or compensate for impacts from resource uses and activities in occupied and unoccupied habitat. No new ACECs would be designated under Alternative C.

Alternative D would allocate resource uses and conserve resource values while sustaining and enhancing ecological integrity across the decision area, and designate a specific subset of nominated ACECs. Conservation measures focus on occupied and unoccupied habitat that includes a 1-mile buffer around habitat and could extend to linkage-connectivity areas.

Alternative E considers adopting applicable management direction from the interagency Candidate Conservation Agreement for the Gunnison sage-grouse, Gunnison Basin Population. The BLM considered three additional alternatives but dismissed them from detailed analysis as explained in the draft RMP amendment/EIS.

The State Directors have identified Alternative D as the preferred alternative. Alternative D was found to best meet the State Directors' planning guidance and was, therefore, selected as the preferred alternative because it: addresses conservation actions within occupied and unoccupied habitat areas and in linkage-connectivity areas; provides for allocating resource uses and conserving resources; and designates a specific subset of ACECs.

Mitigation

The BLM analyzed compensatory mitigation under Alternatives B, C, and D. Under Alternative B the BLM would avoid, minimize, and compensate for impacts to Gunnison sage-grouse and their habitat in occupied and unoccupied habitat management areas and incorporate a minimum of a 5 to 1 ratio where 1 acre of disturbance results in 5 acres of mitigation.

ACECs

Consistent with land use planning regulations at 43 CFR 1610.7-2(b), the BLM is announcing the opening of a 60-day comment period on the ACECs proposed for designation in the preferred alternative. Comments may be submitted using any of the methods listed in the ADDRESSES section earlier.

The proposed ACECs included in the preferred alternative, all located in Colorado, are:

• Dry Creek Basin ACEC (10,920 acres) for protection and enhancement of Gunnison sage-grouse habitat. Proposed management: manage as wind and solar energy exclusion area, right-of-way (ROW) exclusion; prohibit surface disturbing activities during lekking, nesting, or early brood-rearing seasons (March 1 to July 15) unless needed for human health and safety; no new recreation facility construction allowed (March 1 to July 15), unless needed for human health and safety; close to non-energy solid mineral leasing; prohibit new trail development; and apply a no surface occupancy stipulation for fluid minerals leasing.

• Chance Gulch ACEC (13,150 acres) for protection and enhancement of Gunnison sage-grouse habitat. Proposed management: manage as wind and solar energy exclusion area, manage one mile buffer around active and inactive leks as ROW exclusion areas; in areas outside of the exclusion area, ROWs for pipelines, transmission/utility lines, communication sites, or other comparable infrastructure may only be authorized under the following criteria: infrastructure upgrade and/or reconstruction occurs or is co-located with the existing ROW, new utility lines are co-located on existing overhead lines to the maximum extent feasible, pipelines, communication sites, or other infrastructure are co-located within the disturbed footprint or ROW of existing structures, no new construction of roads/routes would be permitted, excluding pending applications which may be granted after appropriate evaluation at the authorized officer's discretion; maintain current, designated route system limiting both motorized and mechanized travel; limit over-snow vehicle travel to designated routes; close the area to all human use during lekking season (March 15 to May 15) with exceptions for administrative access and emergency maintenance; close to motorized (including e-bikes) travel during lekking and nesting season (March 15 to June 30) to prevent disturbance to breeding sage-grouse with exceptions for administrative access and emergency maintenance; prohibit surface disturbing activities during lekking, nesting, or early brood-rearing seasons (March 1 to July 15) unless needed for human health and safety; no new recreation facility construction allowed during lekking, nesting, or early brood-rearing seasons (March 1 to July 15), unless needed for human health and safety; close to non-energy solid mineral leasing; prohibit new trail development and close to fluid minerals exploration, leasing and/or development.

• Sapinero Mesa ACEC (17,240 acres) for protection and enhancement of Gunnison sage-grouse habitat. Proposed management: manage as wind and solar energy exclusion area; manage one mile buffer around active and inactive leks as ROW exclusion areas; in areas outside of the exclusion area, ROWs for pipelines, transmission/utility lines, communication sites, or other comparable infrastructure may only be authorized under the following criteria: infrastructure upgrade and/or reconstruction occurs or is co-located with the existing ROW, new utility lines are co-located on existing overhead lines to the maximum extent feasible, pipelines, communication sites, or other infrastructure are co-located within the disturbed footprint or ROW of existing structures, construction of roads/routes would be permitted, excluding pending applications which may be granted after appropriate evaluation at the authorized officer's discretion; maintain current, designated route system limiting motorized and mechanized travel; limit over-snow vehicle travel to designated routes; close the area west of County Road 26 to motorized and mechanized travel during lekking, nesting, and brood-rearing season (March 15 to July 15) to prevent disturbance to breeding, nesting, and brood-rearing sage-grouse, with exceptions for administrative access and emergency maintenance; area closed to all human use during lekking season (March 15 to May 15) with exceptions for administrative access and emergency maintenance; close to motorized (including e-bikes) travel during lekking and nesting season (March 15 to June 30) to prevent disturbance to breeding sage-grouse with exceptions for administrative access and emergency maintenance; prohibit surface disturbing activities during lekking, nesting, or early brood-rearing seasons (March 1 to July 15) unless needed for human health and safety; no new recreation facility construction allowed during lekking, nesting, or early brood-rearing seasons (March 1 to July 15), unless needed for human health and safety; close to non-energy solid mineral leasing; and close to fluid minerals leasing.

• Sugar Creek ACEC (17,210 acres) for protection and enhancement of Gunnison sage-grouse habitat. Proposed management: manage as wind and solar energy exclusion area, manage one mile buffer around active and inactive leks as ROW exclusion areas; in areas outside of the exclusion area, ROWs for pipelines, transmission/utility lines, communication sites, or other comparable infrastructure may only be authorized under the following criteria: infrastructure upgrade and/or reconstruction occurs or is co-located with the existing ROW, new utility lines are co-located on existing overhead lines to the maximum extent feasible, pipelines, communication sites, or other infrastructure are co-located within the disturbed footprint or ROW of existing structures, no new construction of roads/routes would be permitted, excluding pending applications which may be granted after appropriate evaluation at the authorized officer's discretion; maintain current, designated route system limiting motorized and mechanized travel; limit over-snow vehicle travel to designated routes; area closed to all human use during lekking season (March 15 to May 15) with exceptions for administrative access and emergency maintenance; close to dispersed camping during lekking and nesting season (March 15 to June 30); allow vegetation treatments and wildlife habitat improvements for the benefit of the relevant and important values; prohibit new trail development; close to non-energy solid mineral leasing; and close to fluid minerals leasing.

Existing ACECs in Colorado and Utah would continue to be designated under all alternatives and current management would remain except where updated. Following are the existing, currently designated ACECs, all in Colorado, that would receive updated management. Updates in management are specified below to protect the relevant and important values:

• Gunnison Sage-Grouse ACEC/Important Bird Area (existing, 22,190 acres) for management and protection of the Gunnison sage-grouse and its habitat. Proposed management would remain the same as existing with the following updates: for special status species, surface-disturbing activities will be restricted in special status species occupied locations and their potential habitat for their protection (March 1 to July 15); at minimum, prohibit surface-disturbing activities in occupied habitat management areas during lekking, nesting, or early brood-rearing (March 1 to July 15)—specific time and distance determinations will be based on site-specific conditions and may be modified, in coordination with the appropriate State wildlife agency and USFWS, due to documentation of local variations (e.g., higher/lower elevations), annual climatic fluctuations (e.g., early/late spring and long and/or heavy winter), if located within an area of non-habitat (e.g., forest, sandflat), documented use or occurrence of Gunnison sage-grouse withing the past year (e.g., pellet transects, observations); livestock grazing management, road and trails management, recreation activity management, and vegetation management will be conducted to maintain and restore Gunnison sage-grouse habitat in this area subject to seasonal timing restriction for surface disturbance activity (March 1 to July 15); manage as wind and solar energy exclusion area; no new recreation facility construction allowed (March 1 to July 15), unless needed for human health and safety; close to non-energy solid mineral leasing and no surface occupancy stipulation without waivers, exceptions, and modifications for fluid mineral leasing.

• West Antelope Creek ACEC (existing, 28,280 acres) to improve the capabilities of the resources in the unit to support wintering elk, deer, and bighorn sheep. Proposed management would remain the same as existing with the following updates: manage as wind and solar energy exclusion area, manage one mile buffer around active and inactive leks as ROW exclusion areas; seasonal habitat restrictions apply to prohibit surface disturbance in Gunnison sage-grouse occupied habitat management areas (March 1 to July 15), at minimum; prohibit surface-disturbing activities during lekking, nesting, or early brood-rearing (March 1 to July 15); no new recreation facility construction allowed (March 1 to July 15), unless needed for human health and safety, subject to valid existing rights; close to fluid mineral exploration, leasing, and/or development; close to non-energy solid mineral leasing; close designated routes to motorized travel from March 15 to May 15 and limit over-snow vehicle travel to designated routes; maintain current, designated route system limiting motorized and mechanized travel.

• South Beaver Creek ACEC (existing, 4,570 acres) for protection and enhancement of existing populations and habitat for skiff milkvetch. Proposed management would remain the same as existing with the following updates: remove the restriction for chemical spraying; manage as wind and solar energy exclusion area; manage one mile buffer around active and inactive leks as ROW exclusion areas; seasonal habitat restrictions apply to prohibit surface disturbance in Gunnison sage-grouse occupied habitat management areas from March 1 to July 15, at minimum; prohibit surface-disturbing activities during lekking, nesting, or early brood-rearing from March 1 to July 15; no new recreation facility construction allowed from March 1 to July 15, unless needed for human health and safety, subject to valid existing rights; close to fluid mineral exploration, leasing, and/or development; close to non-energy solid mineral leasing; close designated routes to motorized travel (March 15 to May 15) and limit over-snow vehicle travel to designated routes; maintain current, designated route system limiting motorized and mechanized travel.

The preferred alternative would not propose the following potential ACECs for designation: All BLM-administered surface lands within Gunnison sage-grouse Occupied Habitat Management Area and Unoccupied Habitat Management Area ACEC (Colorado and Utah); Gunnison Satellite Populations Habitat ACEC (Colorado and Utah); Northdale ACEC (Colorado); Kezar Basin ACEC (Colorado); North Parlin ACEC (Colorado); South Parlin ACEC (Colorado); Ohio Creek ACEC (Colorado); and Waunita ACEC (Colorado).

Schedule for the Decision-Making Process

The BLM will provide additional opportunities for public participation consistent with the NEPA and land use planning processes, including a 30-day public protest period and a 60-day Governor's consistency review on the proposed RMP. The proposed RMP amendment/final EIS is anticipated to be available for public protest in the summer of 2024 with an approved RMP amendment and record of decision in the fall of 2024.

The BLM will hold three public meetings in the following locations: one meeting virtually hosted and two in-person meetings at Gunnison, CO, and Dove Creek, CO. The specific date(s) and location(s) of these meetings will be announced at least 15 days in advance through the ePlanning page (see ADDRESSES) and applicable local newspapers.

The BLM will continue to consult with Indian Tribal Nations on a government-to-government basis in accordance with Executive Order 13175, BLM MS 1780, and other Departmental policies. Tribal concerns, including impacts on Indian trust assets and potential impacts to cultural resources, will be given due consideration.

Before including your address, phone number, email address, or other personal identifying information in your comment, you should be aware that your entire comment—including your personal identifying information—may be made publicly available at any time. While you can ask us in your comment to withhold your personal identifying information from public review, we cannot guarantee that we will be able to do so.

(Authority: 40 CFR 1506.6, 40 CFR 1506.10, 43 CFR 1610.2)

Douglas J. Vilsack,
State Director.

[FR Doc. 2023-24394 Filed 11-8-23; 8:45 am]

BILLING CODE 4331-16-P